NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before September 13, 2010. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Office of the Secretary (N1-16-10-5, 7 items, 6 temporary items). Records relating to disaster response, including continuity of operations plans and directives, records relating to continuity of operations exercises, and files relating to agency responses to disasters. Proposed for permanent retention are files relating to disasters of extraordinary significance that the President declares major disasters.

2. Department of Agriculture, Food and Nutrition Service (N1-462-09-9, 1 item, 1 temporary item). Master files of an electronic information system that contains data concerning the food stamp program, including redemptions, retailers authorized to accept food stamps, and compliance matters involving retailers.

3. Department of Agriculture, Office of Security Services (N1-16-09-5, 1 item, 1 temporary item). Master files of an electronic information system that contains employee emergency notification information.

4. Department of Agriculture, Risk Management Agency (N1-258-09-7, 5 items, 5 temporary items). Records relating to legal matters, including such records as appeals and litigation case files, witness request files, sanctions case files, insurance provider litigation cases, and special litigation documentation.

5. Department of the Army, Agency-wide (N1-AU-10-66, 1 item, 1 temporary item). Master files of an electronic information system that relates to continuing education programs and includes such data as soldier contact information, education plans, and tuition assistance status.

6. Department of the Army, Agency-wide (N1-AU-10-67, 1 item, 1 temporary item). Master files of an electronic information system that contains data concerning GI Bill of Rights benefits for Army reserve personnel.

7. Department of the Army, Agency-wide (N1-AU-10-78, 1 item, 1 temporary item). Master files of an electronic information system used to update and certify pay for retired reserve members.

8. Department of the Army, Agency-wide (N1-AU-10-79, 1 item, 1 temporary item). Master files of an electronic information system used to forecast workload at supply storage and distribution facilities.

9. Department of the Army, Agency-wide (N1-AU-10-82, 1 item, 1 temporary item). Master files of an electronic information system used in connection with substance abuse programs to identify and prevent high risk behaviors.

10. Department of Health and Human Services, Centers for Medicare & Medicaid Services (N1-440-09-9, 1 item, 1 temporary item). Master files of an electronic information system that contains enrollment eligibility and paid claims information concerning beneficiaries and is used to detect fraud, waste, and abuse.

11. Department of Health and Human Services, Centers for Medicare & Medicaid Services (N1-440-10-7, 4 items, 4 temporary items). Master files of an electronic information system used to verify beneficiary eligibility and conduct prepayment reviews.

12. Department of Homeland Security, U.S. Immigration and Customs Enforcement (N1-567-09-8, 2 items, 2 temporary items). Master files of an electronic information system that contains data concerning immigration, law enforcement, incidents and similar matters that is also maintained elsewhere as well as legacy data concerning students who entered the United States, legacy criminal investigations data, and agency generated intelligence reports.

13. Department of the Interior, Office of the Secretary (N1-48-10-9, 1 item, 1 temporary item). Master files of an electronic information system that allows the public to submit ideas regarding the agency's role as custodian of public lands.

14. Department of Justice, Executive Office for U.S. Attorneys (N1-118-09-5, 1 item, 1 temporary item). Master files of an electronic information system used to track crack cocaine re-sentencing actions.

15. Department of Justice, Executive Office of U.S. Trustees (N1-60-09-35, 1 item, 1 temporary item). Master files of an electronic information system used to track bankruptcy criminal enforcement efforts and referrals.

16. Department of Justice, Federal Bureau of Investigation (N1-65-10-21, 6 items, 6 temporary items). Issues files, communications files, committee files and other records of the Ombudsman.

17. Department of Justice, Federal Bureau of Investigation (N1-65-10-24, 5 items, 5 temporary items). Records, including electronic data, relating to security risk assessments of individuals and entities with access to biological agents and toxins.

18. Department of Justice, Federal Bureau of Investigation (N1-65-10-27, 4 items, 4 temporary items). Training materials, course registration information, and other records relating to training investigative and surveillance support staff.

19. Department of Labor, Bureau of Labor Statistics (N1-257-09-1, 1 item, 1 temporary item). Copies of collective bargaining agreements that cannot be made public by the agency or donated to a non-Federal depository in accordance with Section 211 of the Labor Management Relations Act of 1947.

20. Department of Labor, Employment Standards Administration (N1-271-06-1, 23 items, 20 temporary items). Records relating to the Energy Employees Occupational Illness Compensation Program. Included are such records as administrative subject files, Congressional correspondence, legislative and legal subject files, case files, accountability review reports, financial files, and electronic information systems relating to such matters as payments, case management, and records access. Proposed for permanent retention are training records, bulletins, and circulars.

21. Department of Transportation, Federal Highway Administration (N1-406-09-19, 21 items, 20 temporary items). Records of Federal Aid Divisions field offices relating to engineering and operations. Included are such records as access interchange requests, defense access road proposals, reports relating to contract bids, contract administration files, safety and health records, continuity of operations files, and files relating to Federal Aid projects. Proposed for permanent retention are files relating to policies and procedures.

22. Department of Transportation, Federal Highway Administration (N1-406-09-20, 11 items, 10 temporary items). Records of Federal Aid Divisions field offices relating to environmental programs. Included are such records as construction and maintenance records, files relating to cooperation with other agencies, environmental controls records, files relating to policies and procedures, and project files lacking significance. Proposed for permanent retention are project files that relate to significant projects, including projects that attracted widespread public attention, established precedents, or have a significant economic impact.

23. Department of Transportation, Federal Highway Administration (N1-406-09-24, 10 items, 10 temporary items). Records of Federal Aid Divisions field offices relating to planning and program development. Included are such records as Federal land transfer files, general correspondence, records relating to the scenic byways program, records relating to controls on outdoor advertising, utility project files, and records relating to maintenance reviews and the review of state and local right-of-way functions.

24. Department of the Treasury, Internal Revenue Service (N1-58-10-10, 2 items, 2 temporary items). Outputs and documentation of an electronic information system used for monitoring compliance.

25. Department of Veterans Affairs, Veterans Health Administration (N1-15-08-1, 2 items, 2 temporary items). Case files relating to complaints of violations of the Privacy Act and the Health Insurance Portability and Accountability Act and a related electronic tracking system.

26. Administrative Office of the U.S. Courts, U.S. District Court (N1-21-10-2, 7 items, 1 temporary item). All post-1969 non-trial civil cases relating to litigation concerning contracts, torts, personal property, forfeiture, social security and other routine matters. Also included are post-1969 non-trial civil cases that do not progress to the “issue joined” stage that relate to such matters as prisoner petitions, stockholders suits, foreclosures, torts to land, medical malpractice, product liability, asbestos liability, civil rights—employment, civil rights—housing/accommodations, civil rights—welfare, civil rights—Americans with Disabilities Act, agriculture—forfeiture, agricultural acts, and Freedom of Information Act. Proposed for permanent retention are all cases that go to trial and all non-trial cases predating 1969. Also proposed for permanent retention are post-1969 non-trial class action suits and multi-district litigation and post-1969 non-trial cases relating to such matters as Federal employee liability, land condemnation, airplane personal injury, airplane product liability, truth in lending, state reapportionment, antitrust, banks and banking, civil rights, voting civil rights, deportation, death penalty prisoner petitions, patents, selective service, black lung litigation, environmental matters, and the constitutionality of state statutes. Also proposed as permanent are post-1969 non-trial civil cases that progress to or pass the “issue joined” stage before closing and relate to such matters as prisoner petitions, stockholders suits, foreclosures, torts to land, medical malpractice, product liability, asbestos liability, civil rights—employment, civil rights—housing/accommodations, civil rights—welfare, civil rights—Americans with Disabilities Act, agriculture—forfeiture, agricultural acts, and Freedom of Information Act. District of Columbia cases relating to domestic relations, adoption, mental incompetence, and probate are also proposed for permanent retention.

27. Export-Import Bank of the United States, Agency-wide (N1-275-10-2, 1 item, 1 temporary item). Master files of an electronic information system used to track financial instruments with renegotiated terms or payment schedules.

28. Export-Import Bank of the United States, Agency-wide (N1-275-10-4, 2 items, 2 temporary items). Master files of an electronic information system used to monitor and evaluate the risk associated with Bank financial products.

Dated: August 6, 2010.
Michael J. Kurtz,
Assistant Archivist for Records Services—Washington, DC.

[FR Doc. 2010-20043 Filed 8-11-10; 8:45 am]

BILLING CODE 7515-01-P